DEPARTMENT OF THE INTERIOR

Fish and Wildlife Service

[FWS-R9-F-2009-N0004; 97600-9424-0000-7e]

TakeMeFishing.org Web Site Advertising Guidelines

AGENCY: U.S. Fish and Wildlife Service, Interior.

ACTION: Notice of adoption of final guidelines.

SUMMARY: The Recreational Boating & Fishing Foundation (RBFF) will sell advertising on its http://TakeMeFishing.org Web site to help generate revenue from non-Federal funds to expand its outreach program. RBFF has adopted final advertising guidelines to determine who can advertise and how the advertising sales will be operated.

FOR FURTHER INFORMATION CONTACT: RBFF Project Officer Mary_Burke@fws.gov (e-mail) or (703) 358-2435.

SUPPLEMENTARY INFORMATION: Recreational boating and fishing participation rates have declined over the past 5 years. Recreational boating and fishing related activities contribute to conserving aquatic resources through excise taxes collected from sales of fishing equipment and motorboat fuel that fund the Federal Aid in Sport Fish Restoration Program. This program, coupled with fishing license sales, makes up more than 80 percent of the funding for conservation and protection of aquatic resources in the United States. To address the declining participation of recreational boating and fishing, Congress passed the Sportfishing and Boating Safety Act of 1998, which called for Federal appropriations to be used for the National Outreach and Communication Program. The Sport Fishing and Boating Partnership Council developed the “Strategic Plan for the National Outreach and Communication Program,” and the Secretary of the Interior approved the Strategic Plan in February 1999.

RBFF is a nonprofit organization created to carry out the National Outreach and Communication Program, whose mission is to increase participation in recreational angling and boating and, through those experiences, increase the public's awareness of and appreciation for the need for conserving and protecting America's aquatic natural resources. RBFF is funded through the Sport Fish Restoration and Boating Trust Fund. This fund is composed of Federal taxes collected on the sale of motorboat fuel and of excise taxes paid by manufacturers of fishing tackle. The U.S. Fish and Wildlife Service (Service) administers RBFF's funding via a cooperative agreement between the Service and RBFF, in the form of a Memorandum of Understanding signed by the Service, the Sport Fishing and Boating Partnership Council, the Association of Fish and Wildlife Agencies, and RBFF.

The Strategic Plan, which RBFF was created to implement, specifically calls for the implementing organization not to be operated as a “grants-in-aid” organization. The Plan also calls for RBFF to “create an industry ‘hard dollar’ fund mechanism to promote, extend and expand the outreach program.” In response, RBFF will sell advertising on its http://TakeMeFishing.org Web site to generate revenue from non-Federal funds to expand its outreach program.

On October 20, 2008, the Service published in the Federal Register (73 FR 62310) a notice of availability of RBFF's draft advertising guidelines and requested public comments on those draft guidelines. RBFF designed draft guidelines to determine who can advertise and how the advertising sales will operate. The Service received three comments during the comment period.

RBFF is adopting, without change, the advertising guidelines that the Service published in the Federal Register on October 20, 2008 (73 FR 62310). Please refer to that notice for the guidelines, or contact the person listed under FOR FURTHER INFORMATION CONTACT.

Paul R. Schmidt,
Acting Deputy Director.

[FR Doc. E9-5589 Filed 3-13-09; 8:45 am]

BILLING CODE 4310-55-P